FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 016227N.

Name: Aim Caribbean Express, Inc.

Address: 2780 Lloyd Road, Jacksonville, FL 32254.

Date Revoked: April 14, 2004.

Reason: Failed to maintain a valid bond.

License Number: 016107N.

Name: Alisped U.S.A. Inc.

Address: 156-15 146th Avenue, Jamaica, NY 11434.

Date Revoked: April 28, 2004.

Reason: Failed to maintain a valid bond.

License Number: 003854N and 003854F.

Name: Bennett International Transport, Inc.

Address: 1001 Industrial Parkway, P.O. Box 569, McDonough, GA 30253.

Date Revoked: April 16, 2004 and April 28, 2004.

Reason: Failed to maintain valid bonds.

License Number: 003568F.

Name: CTSI Logistics, Inc.

Address: 600 Sylvan Avenue, 24th Floor, Englewood Cliffs, NJ 07632.

Date: April 22, 2004.

Reason: Failed to maintain a valid bond.

License Number: 003831F.

Name: Express International Forwarders, Inc.

Address: 4554 SW 132nd Court, Miami, FL 33175.

Date Revoked: April 16, 2004.

Reason: Failed to maintain a valid bond.

License Number: 003017F.

Name: F.C. Forwarding, Inc.

Address: 6708 NW 82nd Avenue, Miami, FL 33166.

Date Revoked: April 22, 2004.

Reason: Failed to maintain a valid bond.

License Number: 004130F.

Name: GSG Investment Inc. dba Worldwide Logistics Company dba WWL dba Trade Passage.

Address: 2411 Santa Fe Avenue, Redondo Beach, CA 90278.

Date Revoked: April 16, 2004.

Reason: Failed to maintain a valid bond.

License Number: 3819F.

Name: Marino Transportation Services, Inc.

Address: 1940 Harrison Street, Fort Lauderdale, FL 33442.

Date Revoked: April 11, 2004.

Reason: Failed to maintain a valid bond.

License Number: 017664N.

Name: Mark M. Marcus dba North American Container Group.

Address: 6600 N. Lincoln Avenue, Suite 3066, Lincolnwood, IL 60712.

Date Revoked: April 21, 2004.

Reason: Failed to maintain a valid bond.

License Number: 017897N.

Name: Mary Ozo Atupulazi dba WestPoint International Shipping.

Address: 509 Summerbreeze Drive, Newark, DE 19702.

Date Revoked: April 22, 2004.

Reason: Surrendered license voluntarily.

License Number: 011029N.

Name: Pagoda Container Line Corp.

Address: 10722 S. La Cienega Blvd., Inglewood, CA 90304.

Date Revoked: April 16, 2004.

Reason: Failed to maintain a valid bond.

License Number: 003286N.

Name: Rialto International, Inc. dba Rialto Ocean Express.

Address: 4636 East Marginal Way South, Suite 201, Seattle, WA 98134.

Date Revoked: April 14, 2004.

Reason: Failed to maintain a valid bond.

License Number: 017751N.

Name: 7 Seas Shipping, Inc. dba EJ Freight Forwarding, Inc.

Address: 9060 Telstar Avenue, Suite 220, El Monte, CA 91731.

Date Revoked: April 17, 2004.

Reason: Failed to maintain a valid bond.

License Number: 003718F.

Name: Sunship International, Inc.

Address: 6815 W 95th Street, NE., Oak Lawn, IL 60453.

Date Revoked: April 23, 2004.

Reason: Failed to maintain a valid bond.

License Number: 008218N.

Name: TKM Overseas Transport, Inc.

Address: 46 Sellers Street, Kearny, NJ 07032.

Date Revoked: April 13, 2004.

Reason: Failed to maintain a valid bond.

License Number: 013149N.

Name: Trans-World Shipping APS.

Address: 515-A North McDonough Street, Decatur, GA 30030.

Date Revoked: April 15, 2004.

Reason: Surrendered license voluntarily.

License Number: 000167N.

Name: Westfeldt Brothers Forwarders, Inc. dba. Global Direct Lines.

Address: 200 Crofton Road, Kenner, LA 70062.

Date Revoked: April 19, 2004.

Reason: Failed to maintain a valid bond.

License Number: 003874F.

Name: World Project Services International, Inc.

Address: 650 East Sam Houston Parkway, Suite 231, Houston, TX 77060.

Date Revoked: April 28, 2004.

Reason: Failed to maintain a valid bond.

License Number: 014691N.

Name: Yun Hong Enterprises (USA), Inc.

Address: 1366 San Mateo Avenue, Suite 201, So. San Francisco, CA 94080.

Date Revoked: April 16, 2004.

Reason: Failed to maintain a valid bond.

Sandra L. Kusumoto,
Director, Bureau of Consumer Complaints and Licensing.

[FR Doc. 04-10821 Filed 5-12-04; 8:45 am]

BILLING CODE 6730-01-P